DEPARTMENT OF ENERGY

Federal Energy Regulatory Commission

[Docket No. PF15-12-000]

Algonquin Gas Transmission, LLC; Notice of Intent To Prepare an Environmental Assessment for the Planned Atlantic Bridge Project, Request for Comments on Environmental Issues, and Notice of Public Scoping Meetings

The staff of the Federal Energy Regulatory Commission (FERC or Commission) will prepare an environmental assessment (EA) that will discuss the environmental impacts of the Atlantic Bridge Project (Project), which would involve construction and operation of facilities by Algonquin Gas Transmission, LLC (Algonquin) in New York, Connecticut, and Massachusetts. The Commission will use this EA in its decision-making process to determine whether the Project is in the public convenience and necessity.

This notice announces the opening of the scoping process the Commission will use to gather input from the public and interested agencies on the Project. You can make a difference by providing use with your specific comments or concerns about the Project. Your comments should focus on the potential environmental effects, reasonable alternatives, and measures to avoid or lessen environmental impacts. Your input will help the Commission staff determine what issues need to be evaluated in the EA. To ensure that your comments are timely and properly recorded, please send your comments so that the Commission receives them in Washington, DC on or before June 11, 2015; however, this will not be the only public input opportunity for the Project. Please refer to the Review Process flow chart in Appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

If you sent comments on this project to the Commission before the opening of this docket on January 30, 2015, you will need to file those comments in Docket No. CP15-12-000 to ensure they are considered as part of this proceeding.

This notice is being sent to the Commission's current environmental mailing list for this Project. State and local government representatives should notify their constituents of this planned Project and encourage them to comment on their areas of concern.

If you are a landowner receiving this notice, a pipeline company representative may contact you about the acquisition of an easement to construct, operate, and maintain the planned facilities. The company would seek to negotiate a mutually acceptable agreement. However, if the Commission approves the Project, that approval conveys with it the right of eminent domain. Therefore, if easement negotiations fail to produce an agreement and the Project is approved, the pipeline company could initiate condemnation proceedings where compensation would be determined in accordance with state law.

A fact sheet prepared by the FERC entitled “An Interstate Natural Gas Facility On My Land? What Do I Need To Know?” is available for viewing on the FERC Web site (www.ferc.gov). This fact sheet addresses a number of typically-asked questions, including the use of eminent domain and how to participate in the Commission's proceedings.

Public Participation

For your convenience, there are four methods you can use to submit your comments to the Commission. The commission will provide equal consideration to all comments received, whether filed in written form or provided verbally. In all instances, please reference the Project docket number (PF15-12-000) with your submission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address: Kimberly D. Bose, Secretary, Federal Energy Regulatory Commission, 888 First Street NE., Room 1A, Washington, DC 20426.

(4) In lieu of sending written or electronic comments, the Commission invites you to attend one of the public scoping meetings its staff will conduct in the project area, scheduled as follows.

FERC Public Scoping Meetings—Atlantic Bridge Project
Date and time | Location
Monday, May 11, 2015, 6:30 p.m. Eastern Time | Yorktown Community and Cultural Center, 1974 Commerce Street, Yorktown Heights, NY 10598.
Tuesday, May 12, 2015, 6:30 p.m. Eastern Time | Riverfront Community Center, 300 Welles Street, Glastonbury, CT 06033.
Wednesday, May 13, 2015, 6:30 p.m. Eastern Time | Abigail Adams Middle School, 89 Middle Street East, Weymouth, MA 02189.
Thursday, May 14, 2015, 6:30 p.m. Eastern Time | Hawthorne Suites by Wyndham, 835 Upper Union Street, Franklin, MA 02038.

We will begin our sign up of speakers at 5:30 p.m. The scoping meetings will begin at 6:30 p.m. with a description of our environmental review process by Commission staff, after which speakers will be called. The meetings will end once all speakers have provided their comments or at 10 p.m., whichever comes first. Please note that there may be a time limit of three minutes to present comments, and speakers should structure their comments accordingly. If time limits are implemented, they will be strictly enforced to ensure that as many individuals as possible are given an opportunity to comment. The meetings will be recorded by a stenographer to ensure comments are accurately recorded. Transcripts will be entered into the formal record of the Commission proceeding. Algonquin representatives will be present one hour prior to the start of the scoping meetings to provide additional information about the project and answer questions.

Summary of the Planned Project

Algonquin plans to construct, install, own, operate, and maintain the planned Atlantic Bridge Project, which (as described more fully below) would involve expansion of its existing pipeline and compressor station facilities located in New York, Connecticut, and Massachusetts. Since sponsoring its open house meetings and initial draft resource reports 1 and 10, Algonquin has reduced the scope of the Project. The current scope of the Project would be capable of delivering up to 153,000 dekatherms per day of natural gas along various delivery points on the Algonquin and Maritimes and Northeast Pipeline systems.

The planned Atlantic Bridge Project includes approximately 18.1 miles of pipeline comprising the following facilities:

• Replacement of approximately 7.6 miles of existing 26-inch-diameter mainline pipeline with a 42-inch-diameter pipeline as follows:

○ 1.3 miles in Rockland County, New York (Upstream Ramapo Lift and Relay (L&R) ²);

² Lift and relay refers to a construction method by which an existing pipeline is removed and replaced with a new pipeline.

○ 4.0 miles in Westchester County, New York (Stony Point Discharge L&R); and

○ 2.3 miles in Fairfield County, Connecticut (Southeast Discharge L&R).

• Extension of an existing loop ³ pipeline with approximately 7.0 miles of additional 36-inch-diameter pipeline along Algonquin's existing pipeline right-of-way in Middlesex and Hartford counties, Connecticut (Cromwell Discharge Loop).

³ A pipeline loop is a segment of pipe constructed parallel to an existing pipeline to increase capacity.

• Installation of approximately 3.5 miles of new 30-inch-diameter pipeline off of Algonquin's existing Q-1 System in Norfolk County, Massachusetts (Q-1 System Loop).

In addition to the pipeline facilities, Algonquin plans to modify two existing compressor stations, construct one new compressor station, modify two existing metering and regulating (M&R) stations and one regulator station, rebuild three existing M&R stations, and construct one new M&R station to replace the existing station. The modifications to the two existing compressor stations would be located in New Haven and Windham Counties, Connecticut, and would add a total additional 18,615 horsepower to Algonquin's pipeline system. The new compressor station would be located in Norfolk County, Massachusetts and include a new 7,700 horsepower gas-fired compressor unit. The modifications to the two existing Algonquin M&R stations and one regulator station would occur in New York, Connecticut, and Massachusetts to accept the new gas flows associated with the Project. The planned rebuilding of the three existing M&R stations would occur in Plymouth and Bristol Counties, Massachusetts. The new M&R station to replace an existing station would be constructed in New London County, Connecticut. Algonquin would also need to construct a number of pig ⁴ launcher and receiver facilities and four new MLVs.

⁴ A “pig” is a tool that the pipeline company inserts into and pushed through the pipeline for cleaning the pipeline, conducting internal inspections, or other purposes.

The general location of the Project facilities is shown in Appendix 2.

Land Requirements for Construction

Construction of the planned facilities would disturb about 231 acres of land, comprising about 190 acres for the pipeline facilities, 36 acres for the compressor stations, and 5 acres for the M&R stations. Following construction, Algonquin would retain about 37 acres of new permanent easement outside of its current operating footprint to operate the new facilities. This amount includes approximately 32 acres of new permanent easement for the new pipeline right-of-way, 4 acres for the new compressor station, and a total of 1 acre for the M&R stations.

The EA Process

The National Environmental Policy Act (NEPA) requires the Commission to take into account the environmental impacts that could result from an action whenever it considers the issuance of a Certificate of Public Convenience and Necessity. NEPA also requires us ⁵ to discover and address concerns the public may have about proposals. This discovery process is referred to as “scoping”. The main goal of the scoping process is to focus the analysis in the EA on the important environmental issues. By this notice, the Commission requests public comments on the scope of the issues to address in the EA. We will consider all filed comments during the preparation of the EA.

⁵ “We,” “us,” and “our” refer to the environmental staff of the Commission's Office of Energy Projects.

In the EA we will discuss impacts that could occur as a result of the construction and operation and maintenance of the planned Project under these general headings:

• Geology and soils;

• land use, including residential, commercial, and prime farmland uses;

• water resources, fisheries, and wetlands;

• cultural resources;

• vegetation and wildlife, including migratory birds;

• air quality and noise;

• endangered and threatened species;

• traffic and transportation;

• public safety; and

• cumulative impacts.

We will also evaluate reasonable alternatives to the planned Project or portions of the Project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EA.

The EA will present our independent analysis of the issues. The EA will be available in the public record through eLibrary and will be published and distributed to the public for an allotted comment period. We will consider all comments on the EA before making our recommendations to the Commission. To ensure we have the opportunity to consider and address your comments, please carefully follow the instructions in the Public Participation section of this notice, beginning on page 2.

With this notice, we are asking agencies with jurisdiction by law and/or special expertise with respect to the environmental issues related to this Project to formally cooperate with us in the preparation of the EA.⁶ Agencies that would like to request cooperating agency status should follow the instructions for filing comments provided under the Public Participation section of this notice.

⁶ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with applicable State Historic Preservation Offices (SHPO), and to solicit their views and those of other government agencies, interested Indian tribes, and the public on the Project's potential effects on historic properties.⁷ We will define the Project-specific Area of Potential Effects (APE) in consultation with the SHPOs as the Project develops. On natural gas facility projects, the APE at a minimum encompasses all areas subject to ground disturbance (examples include construction right-of-way, contractor/pipe storage yards, compressor stations, and access roads). Our EA for this project will document our findings on the impacts on historic properties and summarize the status of consultations under section 106.

⁷ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the planned facilities and the environmental information provided by Algonquin. This preliminary list of issues may change based on your comments and our analysis.

• Geology—Effects as a result of blasting to remove existing surface and bedrock during construction.

• Biological Resources—Effects on threatened and endangered species and sensitive habitats.

• Water Resources—Effects on waterbodies and wetlands, including the crossing of the Connecticut River.

• Land Use—Effects on residential and commercial areas, traffic and transportation corridors, and agricultural lands from construction.

• Cultural Resources - Effects on archaeological sites and historic resources.

• Air Quality and Noise—Effects on the local air quality and noise environment from construction and operation.

• Reliability and Safety—The assessment of hazards associated with natural gas pipelines and aboveground facilities.

Environmental Mailing List

The environmental mailing list includes: federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. We will update the environmental mailing list as the analysis proceeds to ensure that we send the information related to this environmental review to all individuals, organizations, and government entities interested in and/or potentially affected by the planned Project.

When we publish and distribute the EA, copies will be sent to the environmental mailing list for public review and comment. If you would prefer to receive a paper copy of the document instead of the CD version or would like to remove your name from the mailing list, please return the attached Information Request (Appendix 3).

Becoming an Intervenor

In addition to involvement in the EA scoping process, once Algonquin files its application with the Commission, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the Project, which is currently anticipated to be sometime in September 2015.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF15-12). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/esubscribenow.htm.

Finally, public meetings or site visits will be posted on the Commission's calendar located at www.ferc.gov/EventCalendar/EventsList.aspx along with other related information.

Dated: April 27, 2015.
Kimberly D. Bose,
Secretary.

[FR Doc. 2015-11409 Filed 5-11-15; 8:45 am]

BILLING CODE 6717-01-P